DEPARTMENT OF AGRICULTURE

Forest Service

Oregon Coast Provincial Advisory Committee Meeting

AGENCY: Forest Service, USDA.

ACTION: Notice of meeting.

SUMMARY: The Oregon Coast Provincial Advisory Committee (PAC) will meet at the Siuslaw National Forest Supervisor's Office, Siuslaw River Room, 4077 SW Research Way, Corvallis, OR 97333, on July 19, 2001. The meeting will begin at 9 a.m. The agenda will include: County Payments Update; Report on Grassy Knoll Ecosystems; Upland Restoration on the Green Peak Density Management Project; Update on the Umpqua Land Exchange Proposal; Round Robin Information Sharing; and Recreation Use Issues & LSR Management in the Marys Peak Area (this will include a field trip to Marys Peak in the afternoon, for which transportation will be provided). Participants are asked to please bring their lunch. The meeting should end around 4 p.m. Interested citizens are encouraged to attend. A fifteen-minute public comment period is scheduled at 11:15 a.m. The committee welcomes the public's written comments on committee business at any time.

FOR FURTHER INFORMATION CONTACT: Joni Quarnstrom, Public Affairs Specialist, Siuslaw National Forest, 541/750-7075 or write to Forest Supervisor, Siuslaw National Forest, PO Box 1148, Corvallis, OR 97339.

Dated: June 18, 2001.
Gloria D. Brown,
Forest Supervisor.

[FR Doc. 01-17085 Filed 7-6-01; 8:45 am]

BILLING CODE 3410-110-M